DEPARTMENT OF JUSTICE

Antitrust Division

Notice Pursuant to the National Cooperative Research and Production Act of 1993—Workflow Management Coalition

Notice is hereby given that, on October 1, 2004, pursuant to section 6(a) of the National Cooperative Research and Production Act of 1993, 15 U.S.C. 4301 et seq. (“the Act”), Workflow Management Coalition (“WfMC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Workflow Management Coalition, Lighthouse Point, FL. The nature and scope of WfMC's standards development activities are: standardization of terminology, definitions, formats, quality, apparatuses and procedures for the production, use and deployment of workflow process systems and related data. Standards, recommended practices, and technical reports prepared in accordance with WfMC's policies and procedures are intended to have broad national acceptance, as well as provide the basis upon which to achieve international accord in the development of ISO standards.

Dorothy B. Fountain,
Deputy Director of Operations, Antitrust Division.

[FR Doc. 04-27064 Filed 12-9-04; 8:45 am]

BILLING CODE 4410-11-M